DEPARTMENT OF THE TREASURY

Submission for OMB Review; Comment Request

March 27, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 3, 2001 to be assured of consideration.

Bureau of Alcohol, Tobacco and Firearms (BATF)

OMB Number: 1512-0052.

Form Number: ATF F 5130.9 and ATF F 5130.26.

Type of Review: Revision.

Title: Brewer's Report of Operations and Brewpub Report of Operations.

Description: Brewer's periodically file these reports of their operations to account for activity relating to taxable commodities. ATF uses this information primarily for revenue protection, for audit purposes, and to determine whether activity is in compliance with the requirements of law. We also use this information to publish periodical statistical releases of use and interest to the industry.

Respondents: Business or other for-profit.

Estimated Number of Respondents: 1,750.

Estimated Burden Hours Per Respondent:

Form | Response Time (minutes)
ATF F 5130.9 | 45
ATF F 5130.26 | 30

Frequency of Response: Quarterly.

Estimated Total Reporting Burden: 7,800 hours.

OMB Number: 1512-0081.

Form Number: ATF F 5130.22, ATF F 5130.23, ATF F 5130.25 and ATF F 5130.27.

Type of Review: Revision.

Title: Brewer's Bonds and Continuation Certificates.

Description: The Internal Revenue Code requires brewers to give a bond to protect the revenue and to ensure compliance with the requirements of law and regulations. Bonds and continuation certificates are required by law and are necessary to protect government interests in the excise tax revenues that brewers pay.

Respondents: Business or other for-profit.

Estimated Number of Respondents: 1,750.

Estimated Burden Hours Per Respondent: 45 minutes per form.

Frequency of Response: On occasion.

Estimated Total Reporting Burden: 600 hours.

Clearance Officer: Frank Bowers, (202) 927-8930, Bureau of Alcohol, Tobacco and Firearms, Room 3200, 650 Massachusetts Avenue, NW, Washington, DC 20226.

OMB Reviewer: Alexander T. Hunt, (202) 395-7860, Office of Management and Budget, Room 10202, New Executive Office Building, Washington, DC 20503.

Lois K. Holland,
Departmental Reports, Management Officer.

[FR Doc. 01-8119 Filed 4-2-01; 8:45 am]

BILLING CODE 4810-31-P